FEDERAL COMMUNICATIONS COMMISSION

Notice of Public Information Collection(s) Being Submitted for Review to the Office of Management and Budget

August 28, 2006.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before November 13, 2006. If you anticipate that you will be submitting PRA comments, but find it difficult to do so within the period of time allowed by this notice, you should advise the contact listed below as soon as possible.

ADDRESSES: Direct all Paperwork Reduction Act (PRA) comments to Judith B. Herman, Federal Communications Commission, Room 1-B441, 445 12th Street, SW., DC 20554 or via the Internet to PRA@fcc.gov. If you would like to obtain or view a copy of this information collection, you may do so by visiting the FCC PRA Web page at: http://www.fcc.gov/omd/pra.

FOR FURTHER INFORMATION CONTACT: For additional information or copies of the information collection(s), send an e-mail to PRA@fcc.gov or contact Judith B. Herman at 202-418-0214. If you would like to obtain or view a copy of this information collection, you may do so by visiting the FCC PRA Web page at: http://www.fcc.gov/omd/pra.

SUPPLEMENTARY INFORMATION: OMB Control No.: 3060-0292.

Title: Part 69—Access Charges.

Form No.: N/A.

Type of Review: Revision of a currently approved collection.

Respondents: Business or other for-profit.

Number of Respondents: 1,250.

Estimated Time Per Response: .75-5 hours.

Frequency of Response: Monthly reporting requirement and third party disclosure requirement.

Total Annual Burden: 11,250 hours.

Total Annual Cost: N/A.

Privacy Act Impact Assessment: N/A.

Needs and Uses: This collection will be submitted as a revision after this 60 day comment period to Office of Management and Budget (OMB) in order to obtain the full three year clearance.

Part 69 of the Commission's rules and regulations establishes the rules for access charges for interstate or foreign access provided by telephone companies. Local telephone companies and states are required to submit information to the Commission and/or the National Exchange Carrier Association (NECA). The Commission has revised this information collection because certain rules were eliminated which discontinued the on occasion, biennial, annual and semi-annual reporting requirements. Only monthly and third party disclosure requirements remain under this OMB control number. The information is used to compute charges in tariffs for access service (or origination and termination) and to computer revenue pool distributions.

OMB Control No.: 3060-0743.

Title: Implementation of the Pay Telephone Reclassification and Compensation Provisions of the Telecommunications Act of 1996, CC Docket No. 96-128.

Form No.: N/A.

Type of Review: Extension of a currently approved collection.

Respondents: Business or other for-profit.

Number of Respondents: 4,471.

Estimated Time per Response: .50-100 hours.

Frequency of Response: On occasion, annual, quarterly, and other (one-time) reporting requirements, recordkeeping requirement and third party disclosure requirement.

Total Annual Burden: 117,337 hours.

Total Annual Cost: N/A.

Privacy Act Impact Assessment: N/A.

Needs and Uses: This collection will be submitted as an extension (no change in reporting, recordkeeping and third party disclosure requirements) after this 60 day comment period to Office of Management and Budget (OMB) in order to obtain the full three year clearance. In CC Docket No. 96-128, the Commission promulgated rules and reporting requirements implementing Section 276 of the Telecommunications Act of 1996. Among other things the rules: (1) establish fair compensation for every completed intrastate and interstate payphone call; (2) discontinue intrastate and interstate access charge payphone service elements and payments, and intrastate and interstate payphone subsidies from basic exchange services; and (3) adopt guidelines for use by the states in establishing public interest payphones to be located where there would otherwise not be a payphone.

OMB Control No.: 3060-0853.

Title: Certification by Administrative Authority to Billed Entity of Compliance with Children's Internet Protection Act—Universal Service for Schools and Libraries; Receipt of Service Confirmation Form; and Adjustment to Funding Commitment and Modification to Receipt of Service Confirmation Form.

Form Nos.: FCC Forms 479, 486 and 500.

Type of Review: Revision of a currently approved collection.

Respondents: Business or other for-profit and not-for-profit institutions.

Number of Respondents: 45,000.

Estimated Time per Response: 1.5 hours.

Frequency of Response: Annual reporting requirement and third party disclosure requirement.

Total Annual Burden: 62,500 hours.

Total Annual Cost: N/A.

Privacy Act Impact Assessment: N/A.

Needs and Uses: This collection will be submitted as a revision after this 60 day comment period to Office of Management and Budget (OMB) in order to obtain the full three year clearance.

Schools and libraries receiving Internet access and internal connection services supported by the schools and libraries universal service support mechanism must certify that they are enforcing a policy of Internet safety and enforcing the operation of a technology prevention measure in compliance with the Children's Internet Protection Act (CIPA). Administrative Authorities for Billed Entities and their consortia generally must submit signed certifications on FCC Form 479 to the Billed Entity, or to their consortium, certifying as to the status of the Billed Entity in its compliance with CIPA. Billed Entities must use the FCC Form 486 to authorize payment of invoices from service providers, indicate approval of technology plans, and indicate compliance with CIPA. Billed Entities use the FCC Form 500 to make adjustments to previously filed forms. The FCC forms in this collection have been revised to reflect the most current information available, added updated language to the forms and instructions, and reflect the most current burden information. In addition, the FCC Form 486 has added a certification that the technology plan was approved before the receipt of services (Schools and Libraries Fifth Report and Order in FCC 04-190).

OMB Control No.: 3060-0856.

Title: Universal Service—Schools and Libraries Universal Service Program Reimbursement Forms.

Form Nos.: FCC Forms 472, 473 and 474.

Type of Review: Revision of a currently approved collection.

Respondents: Business or other for-profit and not-for-profit institutions.

Number of Respondents: 21,200.

Estimated Time per Response: 1—1.5 hours.

Frequency of Response: On occasion and annual reporting requirements and third party disclosure requirement.

Total Annual Burden: 133,650 hours.

Total Annual Cost: N/A.

Privacy Act Impact Assessment: N/A.

Needs and Uses: This collection will be submitted as a revision after this 60 day comment period to Office of Management and Budget (OMB) in order to obtain the full three year clearance.

The Commission adopted rules in May 1997 providing discounts on telecommunications services, Internet access, and internal connections for eligible schools and libraries under the Schools and Libraries Universal Service program. FCC Forms 472, 473, and 474 are utilized to administer these requirements and obligations. The purpose of FCC Form 472 is to establish the process and procedure for an eligible entity to seek reimbursement from the service provider for the discounts on services paid in full. The purpose of FCC Form 473 is to establish that the participating service provider is eligible to participate in the program. The purpose of FCC Form 474 is to establish the process and procedure for a service provider to seek payment for the discounted costs of services it provided to Billed Entities for eligible services. The forms and instructions in this collection will be modified to utilize a format previously approved by OMB in 1998 and 2001, but have been revised to reflect the most current burden information available with updated language to the forms and instructions. The FCC Form 472 also contains a revision reflecting the timing of reimbursements. Service providers must forward reimbursement payments to a school or library within 20 business days, rather than 10 calendar days, of receipt of such funds form the Universal Service Administrative Company (USAC), (Schools and Libraries Second Report and Order in FCC 03-101). And, in addition, the FCC Form 473 has added a certification that the service provider has complied with the universal service competitive bidding rules (Schools and Libraries Fifth Report and Order in FCC 04-190). These revised forms and instructions will assist in the implementation of the Schools and Libraries Universal Service Program. As a result, the Commission is now seeking OMB approval for the changes to the forms and instructions.

OMB Control No.: 3060-0952.

Title: Proposed Demographic Information and Notifications, Second FNPRM, CC Docket No. 98-147 and Fifth NPRM, CC Docket No. 96-98.

Form No.: N/A.

Type of Review: Extension of a currently approved collection.

Respondents: Business or other for-profit.

Number of Respondents: 1,400.

Estimated Time per Response: 4 hours.

Frequency of Response: On occasion reporting requirement and third party disclosure requirement.

Total Annual Burden: 5,600 hours.

Total Annual Cost: N/A.

Privacy Act Impact Assessment: N/A.

Needs and Uses: This collection will be submitted as an extension (no change in reporting or third party disclosure requirements) after this 60 day comment period to Office of Management and Budget (OMB) in order to obtain the full three year clearance.

The reporting requirements contained in this collection implement Section 706 of the Communications Act of 1934, as amended, to promote deployment of advanced services without significantly degrading the performance of other services. In CC Docket No. 98-147, the Commission sought comment on whether requesting carriers should receive demographic and other information from incumbent local exchange carriers (ILECs) to determine whether they wish to collocate at particular remote terminals. In CC Docket No. 96-98, comment was sought on whether ILECs should provide certain notifications to competing carriers.

Federal Communications Commission.
Marlene H. Dortch,
Secretary.

[FR Doc. E6-15071 Filed 9-12-06; 8:45 am]

BILLING CODE 6712-01-P